NATIONAL LABOR RELATIONS BOARD

Proposed Merger of Regional Offices

AGENCY: National Labor Relations Board.

ACTION: Notice of the proposed merger of the Milwaukee Regional Office with the Minneapolis Regional Office and transfer of supervision over the Des Moines Resident Office from the Minneapolis Regional Office to the Kansas City Regional Office.

SUMMARY: The National Labor Relations Board gives notice of its proposal to merge the Milwaukee and Minneapolis Regional Offices. Minneapolis would remain a Regional Office and Milwaukee would become a Sub-Regional Office under the supervision of the Regional Director in the Minneapolis Regional Office. The Milwaukee Sub-Regional Office would be headed by an Officer-in-Charge. The Milwaukee Sub-Regional Office would continue to provide a full range of services to the public and practitioners for the 50 counties in Wisconsin and 11 counties in the Upper Peninsula of Michigan that it presently serves. Hearing space would be maintained in Milwaukee for the conduct of representation hearings and unfair labor practice trials.

The main impact of the proposed merger on the public served by the Milwaukee office would be that the Regional Director who would decide whether to issue complaints or approve settlement agreements in unfair labor practice cases and make determinations in representation cases would be resident to Minneapolis, rather than Milwaukee.

As part of the proposed merger, the supervision of the Des Moines Resident Office, which currently serves 88 counties in Iowa, would be transferred from the Minneapolis Regional Office to the Kansas City Regional Office. The main impact of this proposed action upon the public served by the Des Moines Resident Office would be that the Regional Director who would decide whether to issue complaint or approve settlement agreements in unfair labor practice cases and make determinations in representation cases would be resident in Kansas City, rather than Minneapolis.

The proposed merger of the Minneapolis and Milwaukee Regional Offices and the reassignment of the Des Moines Resident Office are prompted by a decline in unfair labor practice and representation case filings in the Minneapolis and Milwaukee offices and a desire to equalize caseload and case management responsibilities in the three contiguous Regional Offices. Under the proposed merger, the Statement of Organization and Functions published at 53 FR 10305-10308 on March 30, 1998, would be further amended to reflect the addition of Sub-Region 30, the elimination of Region 30 and the transfer of the territory in the State of Iowa served by the Des Moines Resident Office from Region 18, Minneapolis, to Region 17, Kansas City.

DATES: Comment Period: July 2, 2004.

FOR FURTHER INFORMATION CONTACT: Please forward comments to: Lester A. Heltzer, Executive Secretary, National Labor Relations Board, 1099 14th Street, NW., Room 11600, Washington, DC 20570-0001.

The addresses of the Regional Offices affected by the proposed merger are:

National Labor Relations Board, Region 17, 8600 Farley Street, Suite 100, Overland Park, KS 66212-4677, (913) 967-3000;

National Labor Relations Board, Region 18, 330 South Second Avenue, Suite 790, Minneapolis, MN 55401-2221, (612)-348-1757;

National Labor Relations Board, Region 30, 310 West Wisconsin Avenue, Suite 700, Milwaukee, WI 53203-2211, (414)-297-3861;

National Labor Relations Board, Des Moines Resident Office, 210 Walnut Street, Room 439, Des Moines, IA 50309-2103.

Dated: Washington, DC, May 27, 2004.
By direction of the Board:
Lester A. Heltzer,
Executive Secretary, National Labor Relations Board.

[FR Doc. 04-12401 Filed 6-1-04; 8:45 am]

BILLING CODE 7545-01-P